ENVIRONMENTAL PROTECTION AGENCY

[FRL-10866-01-OLEM]

Forty-Third Update of the Federal Agency Hazardous Waste Compliance Docket

AGENCY: Environmental Protection Agency (EPA).

ACTION: Notice.

SUMMARY: Since 1988, the Environmental Protection Agency (EPA) has maintained a Federal Agency Hazardous Waste Compliance Docket (“Docket”) under the Comprehensive Environmental Response, Compensation, and Liability Act (CERCLA). CERCLA requires EPA to establish a Docket that contains certain information reported to EPA by Federal facilities that manage hazardous waste or from which a reportable quantity of hazardous substances has been released. This notice identifies the Federal facilities not previously listed on the Docket and identifies Federal facilities reported to EPA since the last update on October 24, 2022. In addition to the list of additions to the Docket, this notice includes a section with revisions of the previous Docket list and a section of Federal facilities that are to be deleted from the Docket. Thus, the revisions in this update include one addition, zero deletions, and zero corrections to the Docket since the previous update.

DATES: This list is current as of March 27, 2023.

FOR FURTHER INFORMATION CONTACT: Electronic versions of the Docket and more information on its implementation can be obtained at http://www.epa.gov/fedfac/federal-agency-hazardous-waste-compliance-docket by clicking on the link for Cleanups at Federal Facilities or by contacting Jonathan Tso (Tso.Jonathan@epa.gov), Federal Agency Hazardous Waste Compliance Docket Coordinator, Federal Facilities Restoration and Reuse Office. Additional information on the Docket and a complete list of Docket sites can be obtained at: https://www.epa.gov/fedfac/federal-agency-hazardous-waste-compliance-docket-1.

SUPPLEMENTARY INFORMATION:

Table of Contents

1.0 Introduction

2.0 Regional Docket Coordinators

3.0 Revisions of the Previous Docket

4.0 Process for Compiling the Updated Docket

5.0 Facilities Not Included

6.0 Facility NPL Status Reporting, Including NFRAP Status

7.0 Information Contained on Docket Listing

1.0 Introduction

Section 120(c) of CERCLA, 42 U.S.C. 9620(c), as amended by the Superfund Amendments and Reauthorization Act of 1986 (SARA), requires EPA to establish the Federal Agency Hazardous Waste Compliance Docket. The Docket contains information on Federal facilities that manage hazardous waste and such information is submitted by Federal agencies to EPA under sections 3005, 3010, and 3016 of the Resource Conservation and Recovery Act (RCRA), 42 U.S.C. 6925, 6930, and 6937. Additionally, the Docket contains information on Federal facilities with a reportable quantity of hazardous substances that has been released and such information is submitted by Federal agencies to EPA under section 103 of CERCLA, 42 U.S.C. 9603. Specifically, RCRA section 3005 establishes a permitting system for certain hazardous waste treatment, storage, and disposal (TSD) facilities; RCRA section 3010 requires waste generators, transporters and TSD facilities to notify EPA of their hazardous waste activities; and RCRA section 3016 requires Federal agencies to submit biennially to EPA an inventory of their Federal hazardous waste facilities. CERCLA section 103(a) requires the owner or operator of a vessel or onshore or offshore facility to notify the National Response Center (NRC) of any spill or other release of a hazardous substance that equals or exceeds a reportable quantity (RQ), as defined by CERCLA section 101. Additionally, CERCLA section 103(c) requires facilities that have “stored, treated, or disposed of” hazardous wastes and where there is “known, suspected, or likely releases” of hazardous substances to report their activities to EPA.

CERCLA section 120(d) requires EPA to take steps to assure that a Preliminary Assessment (PA) be completed for those sites identified in the Docket and that the evaluation and listing of sites with a PA be completed within a reasonable time frame. The PA is designed to provide information for EPA to consider when evaluating the site for potential response action or inclusion on the National Priorities List (NPL).

The Docket serves three major purposes: (1) To identify all Federal facilities that must be evaluated to determine whether they pose a threat to human health and the environment sufficient to warrant inclusion on the National Priorities List (NPL); (2) to compile and maintain the information submitted to EPA on such facilities under the provisions listed in section 120(c) of CERCLA; and (3) to provide a mechanism to make the information available to the public. Previous Docket updates are available at https://www.epa.gov/fedfac/previous-federal-agency-hazardous-waste-compliance-docket-updates.

This notice provides some background information on the Docket. Additional information on the Docket requirements and implementation are found in the Docket Reference Manual, Federal Agency Hazardous Waste Compliance Docket found at http://www.epa.gov/fedfac/docket-reference-manual-federal-agency-hazardous-waste-compliance-docket-interim-final or obtained by calling the Regional Docket Coordinators listed below. This notice also provides changes to the list of sites included on the Docket in three areas: (1) Additions, (2) Deletions, and (3) Corrections. Specifically, additions are newly identified Federal facilities that have been reported to EPA since the last update and now are included on the Docket; the deletions section lists Federal facilities that EPA is deleting from the Docket.¹ The information submitted to EPA on each Federal facility is maintained in the Docket repository located in the EPA Regional office of the Region in which the Federal facility is located; for a description of the information required under those provisions, see 53 FR 4280 (February 12, 1988). Each repository contains the documents submitted to EPA under the reporting provisions and correspondence relevant to the reporting provisions for each Federal facility.

¹ See section 3.2 for the criteria for being deleted from the Docket.

In prior updates, information was also provided regarding No Further Remedial Action Planned (NFRAP) status changes. However, information on NFRAP and NPL status is no longer being provided separately in the Docket update as it is now available at: http://www.epa.gov/fedfacts/federal-facility-cleanup-sites-searchable-list or by contacting the EPA HQ Docket Coordinator at the address provided in the FOR FURTHER INFORMATION CONTACT section of this notice.

2.0 Regional Docket Coordinators

Contact the following Docket Coordinators for information on Regional Docket repositories:

• US EPA Region 1. Alyssa Sierra (HBS), 5 Post Office Square, Suite 100, Mail Code: 01-5, Boston MA 02109-3912, (617) 918-1603.

• US EPA Region 2. Cathy Moyik (ERRD), 290 Broadway, New York, NY 10007-1866, (212) 637-4339.

• US EPA Region 3. Joseph Vitello (3SD12), 1600 John F. Kennedy Blvd., Philadelphia, PA 19103, (215) 814-3354.

• US EPA Region 3. Dawn Fulsher (3SD12), 1600 John F. Kennedy Blvd., Philadelphia, PA 19103, (215) 814-3270.

• US EPA Region 4. Alayna Famble (9T25), 61 Forsyth St. SW, Atlanta, GA 30303, (404) 562-8444.

• US EPA Region 5. David Brauner (SR-6J), 77 W. Jackson Blvd., Chicago, IL 60604, (312) 886-1526.

• US EPA Region 6. Philip Ofosu (6SF-RA), 1445 Ross Avenue, Dallas, TX 75202-2733, (214) 665-3178.

• US EPA Region 7. Todd H Davis (SUPRERSB), 11201 Renner Blvd., Lenexa, KS 66219, (913) 551-7749.

• US EPA Region 8. Ryan Dunham (EPR-F), 1595 Wynkoop Street, Denver, CO 80202, (303) 312-6627.

• US EPA Region 9. Leslie Ramirez (SFD-6-1), 75 Hawthorne Street, San Francisco, CA 94105, (415) 972-3978.

• US EPA Region 10. Ken Marcy, Oregon Operations Office, 805 SW Broadway, Suite 500, Portland, OR 97205, (503) 326-3269.

3.0 Revisions of the Previous Docket

This section includes a discussion of the additions, deletions and corrections to the list of Docket facilities since the previous Docket update.

3.1 Additions

These Federal facilities are being added primarily because of new information obtained by EPA (for example, recent reporting of a facility pursuant to RCRA sections 3005, 3010, or 3016 or CERCLA section 103). CERCLA section 120, as amended by the Defense Authorization Act of 1997, specifies that EPA take steps to assure that a Preliminary Assessment (PA) be completed within a reasonable time frame for those Federal facilities that are included on the Docket. Among other things, the PA is designed to provide information for EPA to consider when evaluating the site for potential response action or listing on the NPL. This notice includes one addition.

3.2 Deletions

There are no statutory or regulatory provisions that address deletion of a facility from the Docket. However, if a facility is incorrectly included on the Docket, it may be deleted from the Docket. The criteria EPA uses in deleting sites from the Docket include: a facility for which there was an incorrect report submitted for hazardous waste activity under RCRA (e.g., 40 CFR 262.44); a facility that was not Federally-owned or operated at the time of the listing; a facility included more than once (i.e., redundant listings); or when multiple facilities are combined under one listing. (See Docket Codes (Reasons for Deletion of Facilities) for a more refined list of the criteria EPA uses for deleting sites from the Docket.) Facilities being deleted no longer will be subject to the requirements of CERCLA section 120(d). This notice includes zero deletions.

3.3 Corrections

Changes necessary to correct the previous Docket are identified by both EPA and Federal agencies. The corrections section may include changes in addresses or spelling, and corrections of the recorded name and ownership of a Federal facility. In addition, changes in the names of Federal facilities may be made to establish consistency in the Docket or between the Superfund Enterprise Management System (SEMS) and the Docket. For the Federal facility for which a correction is entered, the original entry is as it appeared in previous Docket updates. The corrected update is shown directly below, for easy comparison. This notice includes zero corrections.

4.0 Process for Compiling the Updated Docket

In compiling the newly reported Federal facilities for the update being published in this notice, EPA extracted the names, addresses, and identification numbers of facilities from four EPA databases—the WebEOC, the Biennial Inventory of Federal Agency Hazardous Waste Activities, the Resource Conservation and Recovery Act Information System (RCRAInfo), and SEMS—that contain information about Federal facilities submitted under the four provisions listed in CERCLA section 120(c).

EPA assures the quality of the information on the Docket by conducting extensive evaluation of the current Docket list and contacts the other Federal Agency (OFA) with the information obtained from the databases identified above to determine which Federal facilities were, in fact, newly reported and qualified for inclusion on the update. EPA is also striving to correct errors for Federal facilities that were previously reported. For example, state-owned or privately-owned facilities that are not operated by the Federal government may have been included. Such problems are sometimes caused by procedures historically used to report and track Federal facilities data. Representatives of Federal agencies are asked to contact the EPA HQ Docket Coordinator at the address provided in the FOR FURTHER INFORMATION CONTACT section of this notice if revisions of this update information are necessary.

5.0 Facilities Not Included

Certain categories of facilities may not be included on the Docket, such as: (1) Federal facilities formerly owned by a Federal agency that at the time of consideration was not Federally-owned or operated; (2) Federal facilities that are small quantity generators (SQGs) that have not, more than once per calendar year, generated more than 1,000 kg of hazardous waste in any single month; (3) Federal facilities that are very small quantity generators (VSQGs) that have never generated more than 100 kg of hazardous waste in any month; (4) Federal facilities that are solely hazardous waste transportation facilities, as reported under RCRA section 3010; and (5) Federal facilities that have mixed mine or mill site ownership.

An EPA policy issued in June 2003 provided guidance for a site-by-site evaluation as to whether “mixed ownership” mine or mill sites, typically created as a result of activities conducted pursuant to the General Mining Law of 1872 and never reported under section 103(a) of CERCLA, should be included on the Docket. For purposes of that policy, mixed ownership mine or mill sites are those located partially on private land and partially on public land. This policy is found at http://www.epa.gov/fedfac/policy-listing-mixed-ownership-mine-or-mill-sites-created-result-general-mining-law-1872. The policy of not including these facilities may change; facilities now omitted may be added at some point if EPA determines that they should be included.

6.0 Facility NPL Status Reporting, Including NFRAP Status

EPA tracks the NPL status of Federal facilities listed on the Docket. An updated list of the NPL status of all Docket facilities, as well as their NFRAP status, is available at https://www.epa.gov/fedfacts/federal-facility-cleanup-sites-searchable-list or by contacting the EPA HQ Docket Coordinator at the address provided in the FOR FURTHER INFORMATION CONTACT section of this notice. In prior updates, information regarding NFRAP status changes was provided separately.

7.0 Information Contained on Docket Listing

The information is provided in three tables. The first table is a list of additional Federal facilities that are being added to the Docket. The second table is a list of Federal facilities that are being deleted from the Docket. The third table is for corrections.

The Federal facilities listed in each table are organized by the date reported. Under each heading is listed the name and address of the facility, the Federal agency responsible for the facility, the statutory provision(s) under which the facility was reported to EPA, and a code.²

² Each Federal facility listed in the update has been assigned a code that indicates a specific reason for the addition or deletion. The code precedes this list.

The statutory provisions under which a Federal facility is reported are listed in a column titled “Reporting Mechanism.” Applicable mechanisms are listed for each Federal facility: for example, Sections 3005, 3010, 3016, 103(c), or Other. “Other” has been added as a reporting mechanism to indicate those Federal facilities that otherwise have been identified to have releases or threat of releases of hazardous substances. The National Contingency Plan at 40 CFR 300.405 addresses discovery or notification, outlines what constitutes discovery of a hazardous substance release, and states that a release may be discovered in several ways, including: (1) A report submitted in accordance with section 103(a) of CERCLA, i.e., reportable quantities codified at 40 CFR 302; (2) a report submitted to EPA in accordance with section 103(c) of CERCLA; (3) investigation by government authorities conducted in accordance with section 104(e) of CERCLA or other statutory authority; (4) notification of a release by a Federal or State permit holder when required by its permit; (5) inventory or survey efforts or random or incidental observation reported by government agencies or the public; (6) submission of a citizen petition to EPA or the appropriate Federal facility requesting a preliminary assessment, in accordance with section 105(d) of CERCLA; (7) a report submitted in accordance with section 311(b)(5) of the Clean Water Act; and (8) other sources. As a policy matter, EPA generally believes it is appropriate for Federal facilities identified through the CERCLA discovery and notification process to be included on the Docket.

The complete list of Federal facilities that now make up the Docket and the NPL and NFRAP status are available to interested parties and can be obtained at https://www.epa.gov/fedfacts/federal-facility-cleanup-sites-searchable-list or by contacting the EPA HQ Docket Coordinator at the address provided in the FOR FURTHER INFORMATION CONTACT section of this notice. As of the date of this notice, the total number of Federal facilities that appear on the Docket is 2,392.

Gregory Gervais,
Director, Federal Facilities Restoration and Reuse Office, Office of Land and Emergency Management.

7.1 Docket Codes/Reasons for Deletion of Facilities

• Code 1. Small-Quantity Generator and Very Small Quantity Generator. Show citation box.

• Code 2. Never Federally Owned and/or Operated.

• Code 3. Formerly Federally Owned and/or Operated but not at time of listing.

• Code 4. No Hazardous Waste Generated.

• Code 5. (This code is no longer used.)

• Code 6. Redundant Listing/Site on Facility.

• Code 7. Combining Sites Into One Facility/Entries Combined.

• Code 8. Does Not Fit Facility Definition.

7.2 Docket Codes/Reasons for Addition of Facilities

• Code 15. Small-Quantity Generator with either a RCRA 3016 or CERCLA 103 Reporting Mechanism.

• Code 16. One Entry Being Split Into Two (or more)/Federal Agency Responsibility Being Split.

• Code 16A. NPL site that is part of a Facility already listed on the Docket.

• Code 17. New Information Obtained Showing That Facility Should Be Included.

• Code 18. Facility Was a Site on a Facility That Was Disbanded; Now a Separate Facility.

• Code 19. Sites Were Combined Into One Facility.

• Code 19A. New Currently Federally Owned and/or Operated Facility Site.

7.3 Docket Codes/Types of Corrections of Information About Facilities

• Code 20. Reporting Provisions Change.

• Code 20A. Typo Correction/Name Change/Address Change.

• Code 21. Changing Responsible Federal Agency. (If applicable, new responsible Federal agency submits proof of previously performed PA, which is subject to approval by EPA.)

• Code 22. Changing Responsible Federal Agency and Facility Name. (If applicable, new responsible Federal Agency submits proof of previously performed PA, which is subject to approval by EPA.)

• Code 24. Reporting Mechanism Determined To Be Not Applicable After Review of Regional Files.

Federal Agency Hazardous Waste Compliance Docket Update #43—Additions
Facility name | Address | City | State | Zip code | Agency | Reporting mechanism | Code | Date
USPS SEATTLE BULK MAIL CTR | 34301 9TH AVE S | FEDERAL WAY | WA | 98003 | UNITED STATES POSTAL SERVICE | RCRA 3010 | 17 | UPDATE #43

Federal Agency Hazardous Waste Compliance Docket Update #43—Deletions
Facility name | Address | City | State | Zip code | Agency | Reporting mechanism | Code | Date
|  |  |  |  | I

Federal Agency Hazardous Waste Compliance Docket Update #43—Corrections
Facility name | Address | City | State | Zip code | Agency | Reporting mechanism | Code | Date

[FR Doc. 2023-08255 Filed 4-21-23; 8:45 am]

BILLING CODE 6560-50-P